DEPARTMENT OF COMMERCE

International Trade Administration

[A-525-001]

Common Alloy Aluminum Sheet From the Kingdom of Bahrain: Final Results of Antidumping Duty Administrative Review; 2023-2024

AGENCY: Enforcement and Compliance, International Trade Administration, Department of Commerce.

SUMMARY: The U.S. Department of Commerce (Commerce) finds that Gulf Aluminium Rolling Mill B.S.C. (GARMCO) subject to this administrative review made sales of common alloy aluminum sheet (aluminum sheet) from the Kingdom of Bahrain (Bahrain) at less than normal value during the period of review (POR) April 1, 2023, through March 31, 2024.

DATES: Applicable February 17, 2026.

FOR FURTHER INFORMATION CONTACT: Yang Jin Chun, AD/CVD Operations, Office I, Enforcement and Compliance, International Trade Administration, U.S. Department of Commerce, 1401 Constitution Avenue NW, Washington DC 20230; telephone: (202) 482-5760.

SUPPLEMENTARY INFORMATION:

Background

On August 6, 2025, Commerce published in the Federal Register the Preliminary Results ¹ of this administrative review of the Order.² A summary of the events that occurred since Commerce published the Preliminary Results, as well as a full discussion of the issues raised by parties for these final results, are provided in the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

¹ See Common Alloy Aluminum Sheet from the Kingdom of Bahrain: Preliminary Results of Antidumping Duty Administrative Review; 2023-2024, 90 FR 37840 (August 6, 2025) (Preliminary Results), and accompanying Preliminary Decision Memorandum (PDM).

² See Common Alloy Aluminum Sheet from Bahrain, Brazil, Croatia, Egypt, Germany, India, Indonesia, Italy, Oman, Romania, Serbia, Slovenia, South Africa, Spain, Taiwan and the Republic of Turkey: Antidumping Duty Orders, 86 FR 22139 (April 27, 2021) (Order).

³ See Memorandum, “Issues and Decision Memorandum for the Final Results of Antidumping Duty Administrative Review: Common Alloy Aluminum Sheet from the Kingdom of Bahrain; 2023-2024,” dated concurrently with, and hereby adopted by this notice (Issues and Decision Memorandum).

Due to the lapse in appropriations and Federal Government shutdown, on November 14, 2025, Commerce tolled all deadlines in administrative proceedings by 47 days.⁴Additionally, due to a backlog of documents that were electronically filed via ACCESS during the Federal Government shutdown, on November 24, 2025, Commerce tolled all deadlines in administrative proceedings by an additional 21 days.⁵ The deadline for the final results of this administrative review is February 10, 2026. Commerce conducted this review in accordance with section 751(a)(1)(B) of the Tariff Act of 1930, as amended (the Act).

⁴ See Memorandum, “Deadlines Affected by the Shutdown of the Federal Government,” dated November 14, 2025.

⁵ See Memorandum, “Tolling of all Case Deadlines,” dated November 24, 2025.

Scope of the Order

The merchandise covered by the Order is aluminum sheet from Bahrain. For a full description of the scope of the Order, see the Issues and Decision Memorandum.⁶

⁶ See Issues and Decision Memorandum.

Analysis of Comments Received

All issues raised in the case and rebuttal briefs filed by parties in this review are listed as an appendix to this notice and addressed in the Issues and Decision Memorandum.

Changes Since the Preliminary Results

Based on our analysis of the comments received from interested parties, Commerce made certain changes to the Preliminary Results. For a more detailed discussion of the changes, see the Issues and Decision Memorandum.

Final Results of Review

Commerce determines that the following estimated weighted-average dumping margins exist for the period April 1, 2023, through March 31, 2024:

Producer and/or exporter | Weighted- average dumping margin (percent)
Gulf Aluminium Rolling Mill B.S.C. | 15.74

Disclosure

We intend to disclose the calculations performed in connection with these final results of review to interested parties in this review within five days after public announcement of the final results or, if there is no public announcement, within five days of the date of publication of this notice in the Federal Register, in accordance with 19 CFR 351.224(b).

Assessment

Pursuant to section 751(a)(2)(C) of the Act and 19 CFR 351.212(b), Commerce shall determine, and U.S. Customs and Border Protection (CBP) shall assess, antidumping duties on all appropriate entries of subject merchandise in accordance with the final results of this review. For entries of subject merchandise during the POR produced by GARMCO for which GARMCO did not know that the merchandise was destined to the United States, we will instruct CBP to liquidate those entries at the all-others rate in the Final Determination of the investigation of sales at less than fair value (LTFV), i.e., 4.83 percent,⁷ if there is no rate for the intermediate company(ies) involved in the transaction.⁸

⁷ See Common Alloy Aluminum Sheet from Bahrain: Final Affirmative Determination of Sales at Less Than Fair Value, 86 FR 13331, 13332 (March 8, 2021); see also Order, 86 FR at 22141.

⁸ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2) of the Act: (1) the cash deposit rate for GARMCO will be equal to the company-specific weighted-average dumping margin established in the final results of the review; (2) for merchandise exported by companies not covered in this review but covered in a prior segment of this proceeding, the cash deposit rate will continue to be the company-specific rate published in the completed segment for the most recent period; (3) if the exporter is not a firm covered in this review or a prior segment of the proceeding (e.g., the LTFV investigation) but the producer is, then the cash deposit rate will be the rate established in the completed segment for the most recent period for the producer of the merchandise; and (4) the cash deposit rate for all other producers and exporters will continue to be 4.83 percent, the all-others rate established in the LTFV investigation. These cash deposit requirements, when imposed, shall remain in effect until further notice.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

Commerce is issuing and publishing this notice in accordance with sections 751(a)(1) and 777(i)(1) of the Act and 19 CFR 351.221(b)(5).

Dated: February 10, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Third-Country Comparison Market

Comment 2: Major Input Adjustments

Comment 3: Date of Sale

Comment 4: By-Product Offsets

Comment 5: Billing Adjustment

Comment 6: Interest Expense Calculation

VI. Recommendation

[FR Doc. 2026-02984 Filed 2-13-26; 8:45 am]

BILLING CODE 3510-DS-P